ENVIRONMENTAL PROTECTION AGENCY

[OPPTS-140287; FRL-6769-6]

Access to Confidential Business Information by Chemical Abstract Services

AGENCY: Environmental Protection Agency (EPA).

ACTION: Notice.

SUMMARY: EPA has authorized its contractor Chemical Abstract Services (CAS) of Columbus, Ohio access to information which has been submitted to EPA under sections 5 and 8 of the Toxic Substances Control Act (TSCA). Some of the information may be claimed or determined to be confidential business information (CBI).ÿ7E

DATES: ÿ7EAccess to the confidential data submitted to EPA under sections 5 and 8 of TSCA occurred as a result of an approved waiver dated September 29, 2000, which requested granting CAS immediate access to sections 5 and 8 of TSCA CBI. This waiver was necessary to allow CAS to provide technical assistance in developing and operating the TSCA Chemical Substance Inventory.

FOR FURTHER INFORMATION CONTACT: For general information contact: ÿ7E Barbara A. Cunningham, Acting Director, Environmental Assistance Division (7408), Office of Pollution Prevention and Toxics, Environmental Protection Agency, 1200 Pennsylvania Ave., NW., Washington, DC 20460; telephone number: (202) 554-1404; e-mail address: TSCA-Hotline@epa.gov.

SUPPLEMENTARY INFORMATION:

I. General Information

Does this Notice Apply to Me?

This action is directed to the public in general. This action may, however, be of interest to “those persons who are or may be required to conduct testing of chemical substances under the Toxic Substances Control Act (TSCA).” Since other entities may also be interested, the Agency has not attempted to describe all the specific entities that may be affected by this action. If you have any questions regarding the applicability of this action to a particular entity, consult the technical person listed under FOR FURTHER INFORMATION CONTACT.

II. How Can I Get Additional Information, Including Copies of this Document or Other Related Documents?

You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

III. What Action is the Agency Taking?

Under contract number 68-W-00-127, contractor CAS, of 2540 Olentangy River Road, P.O. Box 3012, Columbus, OH, will assist the Office of Pollution Prevention and Toxics (OPPT) by providing technical assistance in developing and operating the TSCA Chemical Substance Inventory.

In accordance with 40 CFR 2.306(j), EPA has determined that under EPA contract number 68-W-00-127, CAS will require access to CBI submitted to EPA under sections 5 and 8 of TSCA to perform successfully the duties specified under the contract.

CAS personnel will be given access to information submitted to EPA under sections 5 and 8 of TSCA. Some of the information may be claimed or determined to be CBI.

EPA is issuing this notice to inform all submitters of information under sections 5 and 8 of TSCA that EPA may provide CAS access to these CBI materials on a need-to-know basis only. All access to TSCA CBI under this contract will take place at EPA Headquarters and at CAS' site located at 2540 Olentangy River Road, Columbus, OH.

CAS will be authorized access to TSCA CBI at EPA Headquarters and at CAS' site located at 2540 Olentangy River Road, Columbus, OH, in accordance with the EPA TSCA Confidential Business Information Security Manual.

Clearance for access to TSCA CBI under this contract may continue until September 30, 2005.

CAS personnel will be required to sign nondisclosure agreements and will be briefed on appropriate security procedures before they are permitted access to TSCA CBI.

List of Subjects

Environmental protection, Access to confidential business information.

Dated: January 31, 2001.
Deborah A. Williams,
Acting Director, Information Management Division, Office of Pollution Prevention and Toxics.

[FR Doc. 01-3383 Filed 2-8-01; 8:45 am]

BILLING CODE 6560-50-S